DEPARTMENT OF JUSTICE

Antitrust Division

Notice Pursuant to the National Cooperative Research and Production Act of 1993—Expeditionary Missions Consortium—Crane

Notice is hereby given that, on October 9, 2024, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances.

Specifically, 10x National Security, Aldie, VA; ABSL Power Solutions, Inc., Longmont, CO; Advanced Powder Products, Philipsburg, PA; Aerocine Ventures, Jackson Heights, NY; AEVEX Aerospace, LLC, Solana Beach, CA; AirShip Technologies Group, Lake Oswego, OR; AIVOT Robotics, Inc., Seattle, WA; Anderson Contract Engineering, Inc., Melbourne, FL; Applied Research Associates, Randolph, VT; Archem, LLC, Shreveport, LA; Atomiq, LLC, Pittsfield, MA; AURA Technologies, LLC, Carrboro, NC; AVL Mobility Technologies, Inc., Plymouth, MI; B.E. Meyers & CO, Inc., Redmond, WA; Baker Engineering, LLC, Nunica, MI; Barrow Wise Consulting, LLC, Rockville, MD; Beacon Industries, Inc., Newington, CT; Binergy Scientific, Inc. Atlanta, GA; Bishop Ascendant, Inc., Caldwell, NJ; Boecore, LLC, Colorado Springs, CO; Bren-Tronics, Inc., Commack, NY; Bryce Space and Technology, LLC, dba BryceTech, Alexandria, VA; Canfield Consulting Group, LLC, dba Canfield CyberDefense Group, Olney, MD; Carnegie Mellon University, Pittsburgh, PA; Charles River Analytics, Cambridge, MA; CIYIS, LLC, Atlanta, GA; Columbus Technologies and Services, El Segundo, CA; Commonwealth Technology Innovation, LLC, Alexandria, VA; Compass Blue, LLC, Cazenovia, NY; Cornerstone Research Group, Inc., Miamisburg, OH; Cummings Aerospace, Inc., Huntsville, AL; Daniel H. Wagner Associates, Inc., Hampton, VA; Defense Unicorns, Colorado Springs, CO; DRS Sustainment Systems, Inc., Bridgeton, MO; DZYNE Technologies, LLC, Fairfax, VA; EaglePicher Technologies, LLC, Joplin, MO; Echodyne, Kirkland, WA; Ellis & Watts Global Industries, Inc., Batavia, OH; EnerSys Advanced Systems, Inc., Pinellas Park, FL; EnerSys Advanced Systems, Inc., Horsham, PA; Eniwetok Group, LLC, Richardson, TX; EpiSys Science, Inc., Poway, CA; Exponent, Inc., Menlo Park, CA; Foster-Miller, Inc., dba QinetiQ, Waltham, MA; Future Technologies, Inc., Fairfax, VA; G.D.O., Inc., dba Gradient Technology, Elk River, MN; Galley Power, Inc., Hudson, MA; GE Vernova Operations, LLC, dba GE Vernova Advanced Research Center, Niskayuna, NY; General Atomics, San Diego, CA; George Mason University, Fairfax, VA; Georgia Tech Applied Research Corp., Atlanta, GA; Gigantor Technologies, Inc., Melbourne Beach, FL; GreenSight, Charlestown, MA; Griffon Aerospace, Inc., Madison, AL; Guild Associates, Inc., Dublin, OH; HEBI Robotics, Inc., Pittsburgh, PA; Helical Solar Solutions, LLC, Leander, TX; Howell Laboratories, Inc., Bridgton, ME; Hughes Network Systems, LLC, Germantown, MD; IAI North America, Inc., Herndon, VA; Industrial Machining and Repair, Inc., Prentice, WI; Integrated Consultants, Inc., San Diego, CA; Invocon, Inc., Shenandoah, TX; Kratos Unmanned Aerial Systems, Inc., Sacramento, CA; KVG, LLC, Gettysburg, PA; Leonardo DRS Network and Imaging Systems, LLC, Melbourne, FL; Lockheed Martin Missiles & Fire Control, Orlando, FL; Mantel Technologies, Fort Collins, CO; Metron, Inc., Reston, VA; MetroStar, LLC, Reston, VA; Mindboard, Inc., Sterling, VA; Mosaic ATM, Inc., Leesburg, VA; N2L, Inc., New Market, AL; National Instruments Corporation, Austin, TX; North American Wave Engine Corporation, Baltimore, MD; Omnitek Partners, LLC, Ronkonkoma, NY; Onyx Aerospace, Huntsville, AL; Park-Tours, Inc., dba Left Coast Engineering, Escondido, CA; Parry Labs, LLC, Alexandria, VA; Phoenix Waste Solutions, Inc., Chauvin, LA; Pliant Energy Systems, Inc., Brooklyn, NY; Polaris Sensor Technologies, Inc., Huntsville, AL; Precise Systems, Lexington Park, MD; Qualcomm Technologies, Inc., San Diego, CA; Raft, LLC, Reston, VA; Rantec Power Systems, Inc., Los Osos, CA; RapidFlight Holdings, LLC, Manassas, VA; Safire Technology Group, Inc., Mclean, VA; Skylark Labs, Inc., Dover, DE; Strategic Technology Consulting, LLC, Chantilly, VA; Strogen Strategic Sustainability, LLC, Washington, DC; Symbiosis.io, LLC, Smyrna, GA; Tactical Electronics and Military Supply, LLC, Broken Arrow, OK; Tapestry Solutions, San Diego, CA; TDP, Inc., Loveland, CO; The Dewey Electronics Corporation, Oakland, NJ; The Hard Yards, LLC, dba BlackSea Technologies, Arlington, VA; The Pennsylvania State University—Applied Research Laboratory, State College, PA; The Rector and Visitors of the University of Virginia, Charlottesville, VA; Tetramer Technologies, LLC, Pendleton, SC; Tiami, LLC, Elk Grove, CA; Tiger Team Engineering, LLC, Sheridan, WY; Torch Technologies, Inc., Huntsville, AL; Trustees of Indiana University, Bloomington, IN; TurnAround Factor, Ashland, VA; UberEther, Inc., Sterling, VA; Ultrasea, Inc., East Kingston, NH; Universal Solutions International, Inc., Newport News, VA; Vega Technology Group, LLC, North Canton, OH; Wright Electric, Inc., Malta, NY; and WWM Solutions, LLC, Washington, DC have been added as parties to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

The last notification was filed with the Department on June 14, 2024. A notice was published in the Federal Register pursuant to section 6(b) of the Act on September 12, 2024 (89 FR 74287).

Suzanne Morris,
Deputy Director Civil Enforcement Operations, Antitrust Division.

[FR Doc. 2024-30416 Filed 12-19-24; 8:45 am]

BILLING CODE P